DEPARTMENT OF EDUCATION

34 CFR Chapter III

[Docket ID ED-2016-OSERS-0005; CFDA Number: 84.160C.]

Final Priority—Training of Interpreters for Individuals Who Are Deaf or Hard of Hearing and Individuals Who Are Deaf-Blind Program

AGENCY: Office of Special Education and Rehabilitative Services, Department of Education.

ACTION: Final priority.

SUMMARY: The Assistant Secretary for Special Education and Rehabilitative Services announces a final priority under the Training of Interpreters for Individuals Who Are Deaf or Hard of Hearing and Individuals Who Are Deaf-Blind program. The Assistant Secretary may use this priority for competitions in fiscal year 2016 and later years. We take this action to provide training and technical assistance to better prepare novice interpreters to become highly qualified nationally certified sign language interpreters.

DATES: This priority is effective August 24, 2016.

FOR FURTHER INFORMATION CONTACT: Kristen Rhinehart-Fernandez, U.S. Department of Education, 400 Maryland Avenue SW., Room 5062, Potomac Center Plaza (PCP), Washington, DC 20202-2800. Telephone: (202) 245-6103 or by email: Kristen.Rhinehart@ed.gov.

If you use a telecommunications device for the deaf (TDD) or a text telephone (TTY), call the Federal Relay Service (FRS), toll free, at 1-800-877-8339.

SUPPLEMENTARY INFORMATION:

Purpose of Program: Under the Rehabilitation Act of 1973 (Rehabilitation Act), as amended by the Workforce Innovation and Opportunity Act (WIOA), the Rehabilitation Services Administration (RSA) makes grants to public and private nonprofit agencies and organizations, including institutions of higher education, to establish interpreter training programs or to provide financial assistance for ongoing interpreter training programs to train a sufficient number of qualified interpreters throughout the country. The grants are designed to train interpreters to effectively interpret and transliterate using spoken, visual, and tactile modes of communication; ensure the maintenance of the interpreting skills of qualified interpreters; and provide opportunities for interpreters to improve their skills in order to meet both the highest standards approved by certifying associations and the communication needs of individuals who are deaf or hard of hearing and individuals who are deaf-blind.

Program Authority: 29 U.S.C. 772(f).

Applicable Program Regulations: 34 CFR part 396.

We published a notice of proposed priority (NPP) for this competition in the Federal Register on April 7, 2016 (81 FR 20268). That notice contained background information and our reasons for proposing the particular priority.

Public Comment: In response to our invitation in the NPP, 26 parties submitted comments on the proposed priority. Generally, we do not address technical and other minor changes, or suggested changes the law does not authorize us to make under the applicable statutory authority. In addition, we do not address general comments that raised concerns not directly related to the proposed priority.

Analysis of Comments and Changes: An analysis of the comments and of any changes in the priority since publication of the NPP follows.

State-Level Certification or Licensure

Comment: A few commenters suggested broadening the proposed outcomes for the Experiential Learning Model Demonstration Center (Center) beyond national certification to include State-level certification or licensure. These commenters noted that, in some States, the State certification system is used to prepare interpreters for advancement to national-level certification. Other States use the Educational Interpreter Performance Assessment (EIPA) and the Board for Evaluation of Interpreters (BEI) for certification or licensure to offer interpreting services within the State. Finally, one commenter stated that acknowledging the variability in State-to-State licensure and certification requirements is essential in meeting the goal of novice interpreters in the experiential learning program achieving national certification.

Discussion: One goal of this program is to increase the number and quality of nationally certified interpreters. We do not agree that modification of the proposed outcomes to include State-level certification or licensure is appropriate for the Center.

First, designating national certification as a desired outcome for novice interpreters in the experiential learning program will ensure consistency in the training of these interpreters, as well as the competencies these interpreters will possess by the end of the training period. This will also ensure that novice interpreters will effectively meet the evolving needs of youth and adults in the United States who are deaf and hard of hearing or are deaf-blind, including those who are consumers of the Vocational Rehabilitation (VR) system.

Second, there is limited information available on the reliability and validity of assessments used by States to confer certifications and licensures. For example, in some cases, an individual pays a fee to receive a license to work as an interpreter in a State, regardless of skill or competency. In other cases, assessments, such as the BEI, are State specific, and there is no information about how the specific levels of skills and competencies they assess compare with the level of skills and competencies required to pass other State-level licensure tests, let alone the national interpreter certification exam. Conversely, national certification assessments have undergone psychometric evaluation to ensure consistency, reliability, and validity of results.

Finally, the EIPA does not apply to the training we intend to be offered by the Center. The EIPA focuses on interpreting competencies that are necessary to effectively interpret in elementary and secondary general education settings. We intend for the Center to train interpreters with specific competencies that are necessary to effectively interpret for youth and adults who are deaf ¹ or hard of hearing and individuals who are deaf-blind, including those who are VR consumers in transition from school to post-school activities in postsecondary education, employment, and community settings. None of this, however, prohibits applicants from using State certification or licensure as an internal benchmark, if applicable, for tracking participant progress towards achieving national certification.

¹As used in this notice, the word “deaf” refers to (1) “deaf” and “Deaf” people, i.e. to the condition of deafness; (2) to “deaf, hard of hearing, and Deaf-Blind”; and (3) to individuals who are culturally Deaf and who use American Sign Language (ASL). When we use “Deaf,” we refer only to the third group.

Change: None.

Prospective Applicants

Comment: Many commenters addressed the proposed requirement that the lead applicant must be accredited by the Commission on Collegiate Interpreter Education (CCIE). Many commenters recommended removing this requirement because (1) CCIE accreditation is voluntary, (2) CCIE is not accredited by the Council for Higher Education Accreditation (CHEA), which is the body that accredits and sets standards for organizations that review and accredit higher education programs, and (3) attending a CCIE accredited interpreter education program is not a requirement for becoming a credentialed interpreter.

Several other commenters were concerned that the requirement would limit the pool of eligible applicants because only about one-third of 44 baccalaureate interpreting programs nationwide are CCIE accredited. In addition, there are five CCIE accredited associate of the arts (AA) degree interpreting programs.

A few commenters stated that the proposed requirement would mean that programs on the path to accreditation, private entities that do not possess or have such accreditation available to them, and non-CCIE accredited programs offering rigorous, high-quality instruction in American Sign Language (ASL)-English interpretation would not be eligible to serve as a lead applicant.

Several commenters stated that CCIE accreditation standards do not include several areas that are significant to the proposed priority, including accessibility of, access to, interaction with, and immersion in the Deaf community; having an available Deaf population to promote student training; and standards such as ASL fluency.

One commenter estimated the cost of accreditation from CCIE at $10,000 or more and noted that some organizations are not in a position to support CCIE-related costs at this time.

Finally, one commenter suggested that CCIE accreditation be considered as a secondary qualification, rather than a requirement for the lead applicant.

Discussion: We believe the proposed requirement for the lead applicant to be accredited by CCIE aligns with the goal of the Center to improve the quality of interpreters nationwide and therefore should be maintained in the priority.

While we recognize CCIE is not accredited by CHEA, we do not believe this will adversely impact the lead applicant's ability to effectively design and implement this Center because each accreditation has a different purpose. CHEA focuses on the quality of higher education institutions and programs in order for the public to know that an institution or program provides an overall quality education.

By contrast, the mission of CCIE is focused specifically on professionalism in the field of interpreter education through the accreditation of professional preparation programs, the development and revision of interpreter education standards, the encouragement of excellence in program development, a national and international dialogue on the preservation and advancement of standards in the field of interpreter and higher education, and the application of knowledge, skills, and ethics of the profession. There are currently 13 CCIE-accredited programs ² across the country that would meet the lead applicant requirement for this competition. At present, CCIE is the only entity in the field of interpreter education that measures the standards of interpreter education programs.

² www.discoverinterpreting.com/?Find_an_ASL-English_Interpreting_program.

We recognize that these standards are the minimum requirements for CCIE accreditation and a program may exceed these standards in many areas, including those indicated by the comments. One of the goals of the Center is to increase accessibility of and access to interaction and immersion in the Deaf community, having an available Deaf population to promote student training, and standards such as ASL fluency. As such, we believe the requirements in the priority support this goal.

We acknowledge that CCIE accreditation is voluntary and that attending a CCIE-accredited interpreter education program is not a requirement for becoming a credentialed interpreter. However, we believe that the interpreter education program should be accredited. The Center is then better positioned to incorporate interpreter education standards into the design and delivery of training and to evaluate its effectiveness in increasing the number of certified interpreters.

While non-CCIE accredited baccalaureate degree English-ASL programs are not eligible as the lead applicant, they may serve as members of the consortium. We respect and value non-CCIE accredited programs offering rigorous, high-quality interpreter education. We are also sensitive to budgetary and other constraints that may limit institutions pursuing CCIE accreditation. We encourage eligible lead applicants to consider a number of appropriate entities, including high-quality non-CCIE accredited baccalaureate degree interpreter education programs, to carry out the work of the consortium.

Change: None.

Consideration of Other Eligible Applicants

Comment: Some commenters suggested consideration of other eligible lead applicants or as members of the consortium such as AA programs, associate in applied sciences (AAS) programs, and master's degree interpreter education programs that prepare interpreter educators in addition to hosting baccalaureate degree programs that prepare students to work in kindergarten through grade 12 (K-12) settings upon graduation.

Discussion: The proposed priority did not specify that programs offering both a bachelor's and master's degree in interpreter education could serve as lead applicants if the program holds CCIE accreditation. We agree that these programs should be eligible lead applicants and may also serve as members of the consortium, and we are revising the priority accordingly.

However, AA/AAS programs are not eligible lead applicants. Since July 2012, there has been an educational requirement for an individual to sit for the Registry of Interpreters for the Deaf National Interpreter Certification test. Specifically, candidates must possess, at a minimum, a bachelor's degree in any field or major, or a demonstrated educational equivalency. We want to ensure that, while the individuals served by the Center require additional skills training to be provided by the Center, they otherwise meet the requirements to sit for the National Certification examination.

Programs that prepare students to work in K-12 settings are not eligible lead applicants or members of the consortium because the focus of this program is to prepare novice interpreters to work in VR settings. We believe this focus was implied in the background section of the priority but recognize it was not clearly stated within the proposed priority. Therefore, we take this opportunity to provide further explanation to support the focus of this program.

The Workforce Innovation and Opportunity Act (WIOA) emphasizes support to transition-age youth and adults with disabilities through such activities as funding various VR services and training of qualified personnel. The final priority aligns with the WIOA framework by focusing on the training of qualified interpreters to work with transition-age youth and adults who are deaf, hard of hearing, or deaf-blind. Thus, programs that prepare students to work in K-12 settings are not eligible applicants or members of the consortium because WIOA funds do not support training of interpreters to work in K-12 settings, with the exception of transition services.

Change: Under the purpose of the priority, we have clarified that the Center must prepare novice interpreters to work in VR settings.

In paragraph (a) under “Establish a consortium” in the Project Activities section of the priority, we have clarified that an eligible consortium can be comprised of a designated lead applicant that operates both bachelor's and master's degree programs in interpreter education that are recognized and accredited by CCIE.

Members of a Consortium

Comment: A number of commenters asked that we clarify which entities must be represented in the consortium. One commenter recommended maintaining the proposed entities in order to gain the broadest analysis of effective models and practices possible.

In addition, commenters also stated that the entities participating in the consortium should be required to include individuals who are experienced and qualified interpreters, interpreter educators, trained mentors, and individuals who are deaf, as well as those who can model native (first language) fluency in ASL. One commenter stated that the most successful experiential learning programs include coaching, mentoring, and explicit instruction that focuses specifically on the skills for interacting in diverse cultural milieus.

Discussion: We agree that we need to clarify paragraph (b) under “Establish a consortium” and the types of entities that must be represented in the consortium. When we stated in the proposed priority that “members of the consortium must be staffed by or have access to experienced and certified interpreters, interpreter educators, and trained mentors with the capability in providing feedback and guidance to novice interpreters, and in serving as language models,” we meant that members of the consortium must have on staff, or have access to, individuals who are deaf and who can model native (first language) fluency in ASL.

Applicants are encouraged to include in their consortium other appropriate entities such as VR agencies, community-based organizations, and State commissions. Applicants could develop at least one partnership with a community-based entity (for example, with a Commission for the Deaf that is knowledgeable and involved in the delivery of interpreter services), at least one partnership with industry or government agencies (e.g., State VR agencies or American Job Centers) and at least one partnership with post-secondary settings (e.g., universities that serve a large number of deaf and hard of hearing students). Each of these partnerships would yield different types of learning and coaching contexts and allow for dynamic application of new ideas and structures for possible replication. In addition, non-CCIE accredited baccalaureate degree English-ASL programs may serve as members of the consortium.

We agree that training for novice interpreters must include skills for interacting in diverse cultural milieus and, as such, members of the consortium must represent diverse linguistic and cultural minority backgrounds and be qualified to provide instruction on best practices for interpreting in diverse cultural and linguistic settings.

Change: In paragraph (b) under “Establish a consortium” in the Project Activities section of the priority, we clarified that members of the consortium must be staffed by or have access to experienced and certified interpreters, interpreter educators, individuals who are deaf, trained mentors, and first language models in ASL. We added that consortium members must represent diverse linguistic and cultural minority backgrounds and be qualified to provide instruction on best practices in interpreting in diverse cultural and linguistic settings.

Consortium Expectations in Terms of Cost Match

Comment: One commenter asked whether consortium members or other identified partners must contribute to the cost of implementation, either through direct or indirect contributions.

Discussion: The proposed priority did not address this question. The responsibility for costs associated with all aspects of the Center, such as program design, implementation, training activities, and evaluation, as well as oversight and management of the Center, will be determined and agreed upon by the lead applicant, members of the consortium, and other identified partners. This also applies to determining any direct or indirect costs or in-kind contributions made by the lead applicant, members of the consortium, and other identified partners. The notice inviting applications will specify whether there is a cost-matching requirement and, if so, it will confirm the percentage of the match. Regardless of how the lead applicant, consortium members, and other identified partners determine shared costs, it is ultimately the responsibility of the lead applicant to meet the cost-matching requirement.

Change: None.

Team Comprised of Native Language Users, Qualified Interpreters, and Trained Mentors

Comment: We received several comments about the proposed requirement for the consortium to establish a team of native language users, qualified interpreters, and trained mentors to partner with novice interpreters during and after successful completion of the experiential learning program. Overall, commenters recommended maintaining separation of these positions but indicated a need for clear definitions, roles, responsibilities, and the training and qualifications necessary for each position within the team. Rather than the Department developing its own definitions, one commenter recommended the Department use applicable definitions developed by the Office of Personnel Management when defining the roles of these team members. Two commenters stated that native language users not only include deaf individuals but also those individuals who have grown up using the language and are fluent in it (e.g., children of deaf adults). In addition to serving as language models, native language users should provide mentorship in linguistic and cultural competencies. Another commenter suggested combining the roles of native language user and trained mentor.

Discussion: We will not further specify who must be a member of the team to work with novice interpreters. We believe applicants are best suited to assemble an inclusive and appropriate team. Applicants may define team members and determine the roles, responsibilities, and qualifications of these positions. While we acknowledge that some roles among team members may be shared or combined, we expect, however, the team to include, at minimum, native language users, qualified interpreters, and trained mentors, as well as other appropriate members. By not requiring other specific team members, we will also avoid inadvertently excluding potential team members.

The Department acknowledges there are interpreter-related definitions available through other Federal agencies. However, we want to ensure that any interpreter-related definitions are appropriate for the Center and align with the statute and regulations for this program.

In a notice of proposed rulemaking (NPRM) published in the Federal Register on April 16, 2015 (80 FR 20988), we proposed to amend the definition of a “qualified professional” to mean an individual who has (1) met existing certification or evaluation requirements equivalent to the highest standards approved by certifying associations; and (2) successfully demonstrated interpreting skills that reflect the highest standards approved by certifying associations through prior work experience.” The term “qualified interpreter” used throughout the proposed priority is synonymous with “qualified professional.” A notice of final rulemaking is anticipated to publish in late July.

Change: We replaced the term “qualified interpreter” with “qualified professional” for accuracy and consistency with our regulations. Under Training Activities, in paragraph (a)(1), we added that applicants must describe in their application the roles and responsibilities for each team member.

Project Timelines

Comment: Commenters generally supported the proposed timeline to plan and design the curriculum, develop training modules, and to implement a pilot experiential learning program within the first two years of the grant period. However, one commenter cautioned that expecting students to become ready-to-work interpreters by attending a four-year program is unrealistic. Another commenter reasoned that a sustainable program needs two to three years to design, implement, evaluate, revise, and continue implementation with three to four graduated cohorts in order to generate evidence of impact.

Discussion: We recognize that graduates from baccalaureate degree ASL-English interpreter training programs may not be immediately ready to work and that is why we are establishing a model demonstration center to better prepare novice interpreters to become nationally certified sign language interpreters. We also agree that adequate time is needed to analyze evidence and assess the program. One of the reasons for piloting the program in a single site by year two is to identify and resolve issues and challenges that may arise, as well as to make improvements to the content and delivery of the training based on feedback from the team working with the novice interpreters and the novice interpreters participating in the first pilot. This Center is a demonstration and, at the conclusion of the grant, we will assess program outcomes and determine whether or not an experiential learning approach had an impact in improving the preparation of novice interpreters. For these reasons, we believe the proposed timelines are reasonable.

Change: None.

Project Activities

Comment: Several commenters suggested that we include in the priority additional project activities that are associated with long-term success for ASL-English interpreters. Some examples of additional project activities included: (1) Volunteer interpreting experiences pairing experienced interpreters who agree to volunteer with novice interpreters; (2) in-service training programs built around individualized skills development activities/modules determined after a comprehensive diagnostic assessment to increase novice practitioner performance; (3) scripted training exercises involving real-life scenarios with actors/mentors from the Deaf community; (4) curricular modifications and differentiation strategies to serve novice interpreters who are children of deaf adults (CODAs), particularly CODAs of color; (5) socialization with the Deaf community; and (6) field-based induction programs that employ more direct supervision of work experiences than is typically available through mentorship.

Discussion: Applicants must meet the minimum proposed project activities and may add or incorporate other specific activities, including the activities described in the comments, as appropriate, in order to strengthen the design, curriculum, and training developed and delivered by the Center. We encourage applicants to include in their proposed project any additional activities that they believe would improve the preparation of novice interpreters.

Change: None.

Measures for Assessing the Improvement in Interpreting Skills of Novice Interpreters

Comment: Several commenters suggested that, to assess outcomes more effectively and in a way that goes beyond self-reported “meaningfulness,” we require in the priority the use of specific assessment tools to measure the improvement in interpreting skills of novice interpreters, such as diagnostic assessments/reviews; tools that address the proficiency of educational interpreters, such as the Educational Interpreter Performance Assessment (EIPA) developed by Boys Town National Research Hospital; assessments used by the American Council for Teaching Foreign Languages, Texas Board for Evaluators of Interpreters, and Utah Interpreting Program; pre- and post-program scores on the American Sign Language Proficiency Inventory; or general assessment instruments like the Cultural Intelligence Scale, Intercultural Development Inventory, or other well-reviewed measures of intercultural competence. One commenter stated that measurement of instruction in core dispositions of novice interpreters is needed because without instruction in and measurement of elements of essential professional attributes, a novice interpreter may become more of a “language technician” but not a true mediator.

Discussion: We acknowledge there are several assessment tools that may be appropriate to measure the improvement in interpreting skills of novice interpreters, and we believe that applicants are better positioned to determine which tools are most appropriate for their proposed projects. Nothing in this priority prevents applicants from choosing to use any valid or reliable assessment tool to gauge the progress of novice interpreters. Any proposed instruments must be valid and reliable and the applicant must submit rationale to support the use of each instrument.

Change: We have added the requirements that any proposed instruments must be valid and reliable, and the applicant must submit rationale to support the use of each instrument, to paragraphs (b)(9) and (c) of the Training Activities section and paragraph (c)(1) in the Application Requirements section.

Pilot Sites

Comment: A few commenters asked that we clarify which entities are eligible to be pilot sites. More specifically, one commenter noted that the proposed priority indicated in one place that a partner organization may be a pilot site, while providing in another place that the pilot site must be an existing baccalaureate degree ASL-English interpretation program.

Discussion: We agree there was an inconsistency in the proposed priority. The pilot site entity must be hosted by a baccalaureate degree ASL-English program. This is essential to the priority because we believe these specific programs demonstrate the ability to effectively recruit and select cohort participants, as well as track and evaluate participants. However, to provide applicants with more flexibility, we also want to clarify that applicants may either identify eligible pilot sites in their application or describe the process and criteria they will use to identify eligible pilot sites upon award. We also clarify that partner organizations may serve as experiential learning sites.

Changes: We have revised paragraph (b)(1) in the Training Activities section of the priority to require applicants to identify at least three existing baccalaureate degree ASL-English interpretation programs to host the pilot sites. We have also added to paragraph (b)(1) that applicants may describe the process and criteria they will use to identify the pilot sites upon award.

Cohort Participants

Comment: Several commenters asked that the Department clarify the qualifications of novice interpreter applicants who would be selected to participate in the pilot sites. One commenter recommended removing the requirement for cohort participants to have a bachelor's degree in any field or major (as required to sit for the National Interpreter Certification exam). The commenter proposed that cohort participants who do not have a bachelor's degree could, instead, demonstrate equivalent knowledge and skills in ASL-English interpretation. Other commenters suggested that cohort participants include: (1) Individuals who are deaf or hard of hearing and who are preparing for the Certification of Deaf Interpreter (CDI) exam; (2) graduates of partner organizations preparing K-12 interpreters; and (3) graduates of baccalaureate degree programs who have not yet obtained program accreditation from the CCIE. One commenter stressed the importance of diversity and inclusion among cohort participants and of ensuring recruitment of students of color, trilingual students, deaf and deaf-blind students, and children of deaf adults.

Discussion: We agree that, to the extent possible, applicants must ensure diversity and inclusion among cohort participants and ensure recruitment of students of color, trilingual students, deaf and deaf-blind students, and children of deaf adults. While this was implied in the proposed priority, it was not explicitly stated and to clarify this we are adding paragraph (b)(5) in the Training Activities section of the priority.

We also agree that we need to clarify the required cohort participants. We intend for the Center to train interpreters with specific competencies that are necessary to effectively interpret for adults who are deaf or hard of hearing and individuals who are deaf-blind, including those who are VR consumers, in transition from school to post-school activities, postsecondary education, employment, and community settings. Therefore, graduates of partner organizations preparing K-12 interpreters are not appropriate to participate in the pilot.

Eligible cohort participants may include deaf individuals, students in their final one or two semesters of completing their degree from a CCIE- or non-CCIE-accredited baccalaureate degree ASL-English interpreter program, recent graduates of CCIE- and non-CCIE-accredited baccalaureate degree ASL-English interpreter education programs, and working novice interpreters who intend to obtain national certification and interpret for adults who are deaf or hard of hearing and individuals who are deaf-blind, including deaf consumers of the VR system. The recruitment and selection of cohort participants will be determined by the Center.

Change: We have expanded the list of possible cohort participants by deleting the requirement for the cohort to comprise graduates from baccalaureate degree ASL-English interpretation programs who are preparing for, or have not passed, the National Interpreter Certification knowledge and performance exams and who intend to work as interpreters, which was in paragraph (b)(2) of the Training Activities section of the proposed priority. We have also expanded the list of possible cohort participants by adding paragraphs (b)(4) and (b)(5) under the Training Activities section. Under paragraph (b)(4), applicants must ensure cohort participants intend to obtain national certification and interpret for adults who are deaf or hard of hearing and individuals who are deaf-blind, including deaf consumers of the VR system. We have provided that eligible cohort participants may include deaf individuals, students in their final one or two semesters of completing their degree from a CCIE or non-CCIE accredited baccalaureate degree ASL-English interpreter program, recent graduates of CCIE and non-CCIE accredited baccalaureate degree ASL-English interpreter education programs, and working novice interpreters. Under paragraph (b)(5), applicants must, to the extent possible, ensure diversity and inclusion among cohort participants and ensure recruitment of students of color, trilingual students, deaf and deaf-blind students, and children of deaf adults.

Comment: None.

Discussion: Upon further review of paragraph (b) of the Training Activities section of the priority, we believe that we should clarify the requirements for recruiting and selecting cohort participants and align this paragraph with other revisions we are making to this section.

Change: We have made several revisions to paragraph (b) of the Training Activities section of the priority. First, we have moved the requirement, in proposed paragraph (b)(2), that applicants provide a plan to ensure that at least one cohort is completed in each pilot site prior to the end of the project period into a new paragraph (b)(3). Second, we have moved a portion of paragraph (b)(3) into a new paragraph (b)(6) and added a provision requiring that applicants establish processes and procedures for recruitment and selection of cohort participants, including criteria to ensure cohort participants demonstrate the capability to successfully complete the program and obtain national certification. Third, we have added paragraph (b)(7) to require that applicants establish procedures to identify and provide technical assistance to cohort participants who may be “at risk” of dropping out of the program. Finally, we have added paragraph (b)(11) to provide that, upon award, all successful applicants must develop and effectively communicate to all cohort participants policies and procedures related to participation in the experiential learning program.

Cost of Cohorts

Comment: Some commenters disagreed with the proposed requirement that all activities must be offered at no cost to participants during the program. Commenters indicated that offering the experiential learning program at no cost does not allow buy-in from participants who may drop the program at any time since there is no penalty for doing so. One commenter suggested a reasonable fee be required for cohort participants and that, upon successful completion of the program, the fee could be refunded to the participant.

Discussion: We agree for the reasons commenters stated that it can be appropriate to charge reasonable fees and applicants may do so. Charging reasonable fees may not be appropriate in all circumstances, however. Some cohort participants may be fully capable of completing the program and attaining national certification but may not be in a position to pay even reasonable fees, and we would not want to exclude them from participating. Therefore, we encourage applicants that choose to charge reasonable fees to consider a process for waiving these fees on a case-by-case basis.

If an applicant chooses to charge reasonable fees, it must describe in the application how this fee will be determined. If successful, upon award, the applicant must develop internal policies and procedures for collecting and effectively managing these fees. Any fees retained as a result of a participant dropping out are considered program income. Therefore, applicants should refer to 2 CFR 200.307 for applicable regulations for program income.

Change: In paragraph (a)(1) of the Training Activities section of the priority, we have removed the proposed requirement that all activities must be offered at no cost to participants during the program. We have added paragraph (b)(10) to provide that applicants may choose to charge reasonable fees to cohort participants but must describe in their application how these fees will be determined. In addition, we have provided that, upon award, applicants must develop internal policies and procedures for collecting and effectively managing these fees, and for waiving these fees for a cohort participant if there is a financial hardship. Any fees retained as a result of a participant dropping out are considered program income.

Number of Cohorts

Comment: Several commenters recommended a specific number of cohorts and a number of novice interpreters per cohort. Generally, commenters supported cohorts of 8 to 12 novice interpreters based on the Conference of Interpreter Trainers' recommended classroom size for interpreter education classes. One commenter recommended following CCIE guidelines of up to 12 in a cohort. Other commenters suggested 3 to 4 cohorts with anywhere from 8 to 12 novice interpreters. One commenter indicated that class sizes need to be on the smaller side so that students can get more personalized and in-depth attention. Another commenter recommended the Department should not require a certain number of novice interpreters per cohort since this number could vary greatly among each program. However, the commenter suggested the Department could require the applicant to establish guidelines basing the number of interpreters in each cohort on the applicant's program size.

Discussion: We agree that the number of novice interpreters per cohort may vary depending on the pilot site. We also agree that novice interpreters will require personalized and in-depth attention. We revised the priority to allow applicants to provide a plan in their application for how they will determine the number of cohorts for each pilot site and the number of participants in each cohort upon award. Applicants should plan accordingly for all cohorts to complete the training program before the end of the project in order to evaluate and report on outcomes of each cohort in each pilot site.

Change: In paragraph (b)(2) of the Training Activities section of the priority, we have added the option for applicants to provide a plan for how they will determine the number of cohorts for each pilot site and the number of participants in each cohort upon award, rather than requiring that all applicants make this determination in the application.

General Comments

Comment: A couple of commenters suggested participants in the cohort should receive college credit or continuing education units for participation in an effort to elevate interest and recruitment into the program.

Discussion: We anticipate a number of cohort participants will be students in their final semester of completing their baccalaureate degree English-ASL program and, therefore, may not benefit from additional college credit. However, nothing in the priority prevents applicants from proposing to award college credits or continuing education units to participants. Should they choose to award such credits, applicants are expected in their application to describe their plans to do so.

Change: We have added paragraph (b)(8) in the Training Activities section of this priority to clarify that applicants may determine whether to award college credits or continuing education units to cohort participants, as appropriate, and to require applicants to describe any plans for awarding college credits or continuation education units in their application.

Comment: One commenter recommended an invitational priority or competitive preference for novice applicants.

Discussion: A novice applicant priority already exists under 34 CFR 77.225, so it is not necessary to establish one in this NFP. If we use the novice priority in a competition, we will provide notification in the applicable notice inviting application published in the Federal Register.

Change: None.

Comment: Two commenters recommended the priority support two additional areas to address unmet needs in the field. The first commenter indicated that research has provided a snapshot into the unmet needs of deaf or hard of hearing individuals and individuals who are deaf-blind, and, therefore, recommended we include a robust needs assessment (which was part of the 2010 interpreter training grants) within this priority. The second commenter recommended that we require grantees to undertake the research necessary to develop a psychometrically valid instrument because, they stated, no domain-specific instrument exists yet in the sign language interpreting field for evaluating intercultural competency.

Discussion: These activities are outside the purpose and intent of this priority.

Change: None.

Comment: While the majority of comments support the goals and intent of the proposed priority, five commenters recommended maintaining the current national and regional interpreter education centers.

Discussion: We do not believe maintaining the current structure of national and regional interpreter education centers is in the best interest of the field. The Department has funded interpreter training programs since 1964 to meet the needs of VR consumers who are deaf or hard of hearing and individuals who are deaf-blind. At each critical juncture, we have re-evaluated the interpreter training program to determine how to best meet the needs of consumers of interpreting services. In the course of this ongoing re-evaluation, we concluded that, since 2005, when the current priorities were established for the national and regional centers, the training needs of interpreters have changed as a result of new and emerging issues facing VR consumers who are deaf or hard of hearing and individuals who are deaf-blind. The Department gave serious consideration to how we could continue to effectively use our funds to influence the field of interpreter education and ultimately meet the current and future needs of VR consumers.

As we noted in the background section in the NPP, we believe the need for interpreting services continues to exceed the available supply of qualified interpreters. Interpreters must be qualified to work with both individuals with a range of linguistic competencies from a variety of cultural backgrounds and individuals with disabilities. Interpreters need additional education, training, and experience in order to meet certification standards, to bridge the graduation-to-credential gap, and to gain sufficient skills to interpret effectively. Therefore, we believe establishing a Model Demonstration Center will better prepare novice interpreters to become nationally certified sign language interpreters in order to meet the needs of individuals who are deaf and hard of hearing and individuals who are deaf-blind.

Change: None.

Comment: Several commenters offered additional strategies beyond the required logic model and project evaluation to ensure that grantees are evaluating their programs throughout planning, designing, and implementing the experiential learning curriculum. For example, commenters suggested that applicants could supplement or strengthen their evaluation using secondary sources such as research and investigative books, journal articles, and dissertations, and use national certifications such as the BEI or EIPA, portfolios, consumer endorsement, and other relevant methods of design.

Discussion: We acknowledge there are other potential strategies that could be used to ensure a program evaluation framework includes the planning, designing, and implementing of the experiential learning curriculum. Applicants may propose unique or additional strategies beyond the required logic model and program evaluation. Applicants should provide rationale in their application to support these additional strategies.

Change: None.

FINAL PRIORITY:

This notice contains one final priority.

Experiential Learning Model Demonstration Center for Novice Interpreters and Baccalaureate Degree ASL-English Interpretation Programs.

Final Priority:

The purpose of this priority is to fund a cooperative agreement for the establishment of a model demonstration center (Center) to: (1) Develop an experiential learning program that could be implemented through baccalaureate degree ASL-English programs or through partner organizations, such as community-based organizations, advocacy organizations, or commissions for the deaf or deaf-blind that work with baccalaureate degree ASL-English programs to provide work experiences and mentoring; (2) pilot the experiential learning program in three baccalaureate degree ASL-English programs and evaluate the results; and (3) disseminate practices that are promising or supported by evidence, examples, and lessons learned.

The Center must prepare novice interpreters to work in VR settings and be designed to achieve, at a minimum, the following outcomes:

(a) Increase the number of certified interpreters.

(b) Reduce the average length of time it takes for novice interpreters to become nationally certified after graduating from baccalaureate degree ASL-English interpretation programs; and

(c) Increase the average number of hours that novice interpreters, through the experiential learning program, interact with and learn from the local deaf community.

Project Activities

To meet the requirements of this priority, the Center must, at a minimum, conduct the following activities:

Establish a consortium

(a) The applicant must establish a consortium of training and technical assistance (TA) providers or use an existing network of providers to design and implement a model experiential learning program. An eligible consortium must be comprised of a designated lead applicant that operates a baccalaureate degree ASL-English interpretation program that is recognized and accredited by CCIE or that operates both bachelor's and master's degree programs in interpreter education that are recognized and accredited by CCIE; and

(b) Members of the consortium must be staffed by or have access to experienced and certified interpreters, interpreter educators, individuals who are deaf, trained mentors, and first language models in ASL. The consortium must also represent members with diverse linguistic and cultural minority backgrounds who are qualified to provide instruction on best practices in interpreting in diverse cultural and linguistic settings. All consortium members must demonstrate the capability to provide training, mentoring, and feedback in person or remotely to novice interpreters who are geographically dispersed across the country, including the territories.

Training Activities

(a) In years one and two, design and implement an experiential learning program that is based upon promising and best practices or modules in the preparation of novice interpreters to become certified interpreters. The program design must, at a minimum:

(1) Include a team that comprises native language users, qualified professionals, and trained mentors to partner with novice interpreters during and after successful completion of the experiential learning program. Applicants must describe in their application the roles and responsibilities for each team member. Roles for team members must include but are not limited to:

(i) Native language users who will serve as language models;

(ii) Qualified professionals who will act in an advisory role by observing, providing feedback, and discussing the novice interpreter's ability to accurately interpret spoken English into ASL and ASL into spoken English in a variety of situations for a range of consumers; and

(iii) Provide mentoring to novice interpreters, as needed. This may include one-on-one instruction to address specific areas identified by the advisor as needing further practice, as well as offering tools, resources, and guidance to novice interpreters to prepare them for potential challenges they may encounter as they grow and advance in the profession. One-on-one instruction may address, but is not limited to, meaning transfer (e.g., accurately providing an equivalent message, appropriately handling register), ethical behavior, meeting the consumer's linguistic preference, managing the flow of information (e.g., pace, density, turn-taking), and other related aspects of the interpreting task.

(2) Provide multiple learning opportunities, such as an internship with a community program, mentoring, and intensive site-specific work. Intensive site-specific work may task a novice interpreter, under close direction from the advisor interpreter, with providing interpreting services to deaf individuals employed at a work site, or to deaf students taking courses at college or enrolled in an apprenticeship program. Other learning modalities may be proposed and must include adequate justification.

(3) Emphasize innovative instructional delivery methods, such as distance learning or block scheduling (i.e., a type of academic scheduling that offers students fewer classes per day for longer periods of time) that would allow novice interpreters to more easily participate in the program (i.e., participants who need to work while in the program, have child care or elder care considerations, or live in geographically isolated areas);

(4) Provide experiential learning that engages novice interpreters with different learning styles;

(5) Provide interpreting experiences with a variety of deaf consumers who have different linguistic and communication needs and preferences, and are located in different settings, including VR settings (e.g., VR counseling, assessments, job-related services, training, pre-employment transition services, transition services, post-employment services, etc.), American Job Centers, and other relevant workforce partner locations;

(6) Require novice interpreters to observe, discuss, and reflect on the work of the advisor interpreter;

(7) Require novice interpreters to interpret in increasingly more complex and demanding situations. The advisor interpreter must provide written and oral feedback that includes strengths and areas of improvement, as well as a discussion with the novice interpreter about interpretation options, ethical behavior, and how best to meet the communication needs of a particular consumer; and

(b) Pilot the experiential learning program in a single site by year two and expand to additional sites beginning in year three. Applicants must:

(1) Identify at least three existing baccalaureate degree ASL-English interpretation programs to host the pilot sites. The baccalaureate programs must use a curriculum design that is based upon current best practices in the ASL-English Interpreter Education profession. Applicants may identify the pilot sites in the application or describe the process and criteria they will use to identify the pilot sites upon award;

(2) Indicate in the application the number of cohorts for each pilot site and the number of participants in each cohort or provide a plan in the application for how this will be determined upon award;

(3) Provide a plan in the application to ensure that at least one cohort is completed in each pilot site prior to the end of the project period;

(4) Ensure cohort participants intend to obtain national certification and interpret for adults who are deaf or hard of hearing and individuals who are deaf-blind, including deaf consumers of the VR system. Cohort participants may include deaf individuals, students within one or two semesters of completing their interpreter education program, recent graduates of interpreter education programs, and working novice interpreters;

(5) To the extent possible, ensure diversity and inclusion among cohort participants and ensure recruitment of students of color, trilingual students, deaf and deaf-blind students, and children of deaf adults;

(6) Establish processes and procedures for recruitment and selection of cohort participants, including criteria to ensure cohort participants demonstrate the capability to successfully complete the program and obtain national certification. This may include, but is not limited to, submission of an application, relevant assessments, interviewing prospective participants, and obtaining recommendations from faculty at baccalaureate degree ASL-English interpretation programs and other appropriate entities;

(7) Establish procedures to identify and provide technical assistance to cohort participants who may be “at risk” of dropping out of the program;

(8) Determine if college credits or continuing education units will be awarded to cohort participants, as appropriate. Should applicants choose to do so, they must describe any plans for awarding college credits or continuation education units in their application;

(9) Describe any assessment tools that will be used to gauge the progress of novice interpreters. Any proposed instruments must be valid and reliable and the applicant must submit rationale to support the use of each instrument;

(10) Describe in their application how any reasonable fees that the applicant proposes to charge cohort participants will be determined. If successful, upon award, applicants must develop internal policies and procedures for collecting and effectively managing these fees, as well for waiving fees for a cohort participant if there is a financial hardship. Any fees retained as a result of a participant dropping out are considered program income. Therefore, applicants should refer to 2 CFR 200.307 for applicable regulations for program income; and

(11) Develop and effectively communicate to all cohort participants the policies and procedures related to participation in the experiential learning program.

(c) Conduct a formative and summative evaluation. Any proposed instruments must be valid and reliable and the applicant must submit rationale to support the use of each instrument. At a minimum, this must include:

(1) An assessment of participant outcomes from each cohort that includes, at a minimum, level of knowledge and practical skill levels using pre- and post-assessments; feedback from novice interpreters, from interpreter advisors, including written feedback from observed interpreting situations, from deaf consumers, from trained mentors, including written feedback from mentoring sessions, and from others, as appropriate;

(2) Clear and specific measureable outcomes that include, but are not limited to:

(i) Improvement in specific linguistic competencies, as identified by the applicant, in English and ASL;

(ii) Improvement in specific competencies, as identified by the applicant, in ASL-English interpretation;

(iii) Outcomes in achieving national certification; and

(iv) The length of time for novice interpreters to become nationally certified sign language interpreters after participating in this project compared to the national average of 19-24 months.

Technical Assistance and Dissemination Activities

Conduct TA and dissemination activities that must include:

(a) Preparing and broadly disseminating TA materials related to practices that are promising or supported by evidence and successful strategies for working with novice interpreters;

(b) Establishing and maintaining a state-of-the-art information technology (IT) platform sufficient to support Webinars, teleconferences, video conferences, and other virtual methods of dissemination of information and TA.

Note: All products produced by the Center must meet government- and industry-recognized standards for accessibility, including section 508 of the Rehabilitation Act.

(c) Developing and maintaining a state-of-the-art archiving and dissemination system that—

(1) Provides a central location for later use of TA products, including curricula, audiovisual materials, Webinars, examples of practices that are promising or supported by evidence, and any other relevant TA products; and

(2) Is open and available to the public.

(d) Providing a minimum of two Webinars or video conferences over the course of the project to describe and disseminate information to the field about results, challenges, solutions, and practices that are promising or supported by evidence.

Note: In meeting the requirements for paragraphs (a), (b), and (c) of this section, the Center either may develop new platforms or systems or may modify existing platforms or systems, so long as the requirements of this priority are met.

Coordination Activities

(a) Establish an advisory committee. To effectively implement the Training Activities section of this priority, the applicant must establish an advisory committee that meets at least semi-annually. The advisory committee must include representation from all affected stakeholder groups (i.e., interpreters, interpreter training programs, deaf individuals, and VR agencies) and may include other relevant groups. The advisory committee will advise on the strategies for establishing sites to pilot the experiential learning program, the approaches to the experiential learning program, modifications to experiential learning activities, TA, sustainability planning, and evaluating the effectiveness of the program, as well as other relevant areas as determined by the consortium.

(b) Establish one or more communities of practice ³ that focus on project activities in this priority and that act as vehicles for communication and exchange of information among participants in the experiential learning program, as well as other relevant stakeholders;

³ A community of practice (CoP) is a group of people who work together to solve a persistent problem or to improve practice in an area that is important to them and who deepen their knowledge and expertise by interacting on an ongoing basis. CoPs exist in many forms, some large in scale that deal with complex problems, others small in scale that focus on a problem at a very specific level. For more information on communities of practice, see: www.tadnet.org/pages/510.

(c) Communicate, collaborate, and coordinate, on an ongoing basis, with other relevant Department-funded projects, as applicable; and

(d) Maintain ongoing communication with the RSA project officer and other RSA staff as required.

Application Requirements

To be funded under this priority, applicants must meet the application requirements in this priority. RSA encourages innovative approaches to meet the following requirements:

(a) Demonstrate, in the narrative section of the application under “Significance of the Project,” how the proposed project will address the need for nationally certified sign language interpreters. To meet this requirement, the applicant must:

(1) Demonstrate knowledge of English/ASL competencies that novice interpreters must possess in order to enter and to complete an experiential learning program and, at the end of the program, to successfully obtain national certification;

(2) Demonstrate knowledge of practices that are promising or supported by evidence in training novice interpreters; and

(3) Demonstrate knowledge of practices that are promising or supported by evidence in providing experiential learning.

(b) Demonstrate, in the narrative section of the application under “Quality of Project Services,” how the proposed project will—

(1) Ensure equal access and treatment for members of groups that have historically been underrepresented based on race, color, national origin, gender, age, or disability in accessing postsecondary education and training;

(2) Identify the needs of intended recipients of training; and

(3) Ensure that project activities and products meet the needs of the intended recipients by creating materials in formats and languages that are accessible;

(4) Achieve its goals, objectives, and intended outcomes. To meet this requirement, the applicant must identify and provide—

(i) Measurable intended project outcomes;

(ii) Evidence of an existing Memorandum of Understanding or a Letter of Intent between the lead applicant, members of the consortium, other proposed training and TA providers, and other relevant partners to establish a consortium that includes a description of each proposed partner's anticipated commitment of financial or in-kind resources (if any), how each proposed provider's current and proposed activities align with those of the proposed project, how each proposed provider will be held accountable under the proposed structure, and evidence to demonstrate a working relationship between the applicant and its proposed partners and key stakeholders and other relevant groups; and

(iii) A plan for communicating, collaborating, and coordinating with an advisory committee; key staff in State VR agencies, such as State Coordinators for the Deaf; State and local partner programs; Registry of Interpreters for the Deaf, Inc.; RSA partners, such as the Council of State Administrators of Vocational Rehabilitation and the National Council of State Agencies for the Blind; and relevant programs within the Office of Special Education and Rehabilitative Services (OSERS).

(3) Use a conceptual framework to design experiential learning activities, describing any underlying concepts, assumptions, expectations, beliefs, or theories, as well as the presumed relationships or linkages among these variables and any empirical support for this framework.

(4) Be based on current research and make use of practices that are promising or supported by evidence.

To meet this requirement, the applicant must describe—

(i) How the current research about adult learning principles and implementation science will inform the proposed TA; and

(ii) How the proposed project will incorporate current research and practices that are promising or supported by evidence in the development and delivery of its products and services.

(5) Develop products and provide services that are of high quality and sufficient intensity and duration to achieve the intended outcomes of the proposed project. To address this requirement, the applicant must describe its proposed activities to identify or develop the knowledge base for practices that are promising or supported by evidence in experiential learning for novice interpreters.

(6) Develop products and implement services to maximize the project's efficiency. To address this requirement, the applicant must describe—

(i) How the proposed project will use technology to achieve the intended project outcomes; and

(ii) With whom the proposed project will collaborate and the intended outcomes of this collaboration.

(c) In the narrative section of the application under “Quality of the Evaluation Plan,” include an evaluation plan for the project. To address this requirement, the applicant must describe—

(1) Evaluation methodologies, including instruments, data collection methods, and analyses that will be used to evaluate the project. Any proposed instruments must be valid and reliable, and the applicant must submit rationale to support the use of each instrument;

(2) Measures of progress in implementation, including the extent to which the project's activities and products have reached their target populations; intended outcomes or results of the project's activities in order to evaluate those activities; and how well the goals and objectives of the proposed project, as described in its logic model,⁴ have been met;

⁴ A logic model communicates how the project will achieve its intended outcomes and provides a framework for both the formative and summative evaluations of the project.

(3) How the evaluation plan will be implemented and revised, as needed, during the project. The applicant must designate at least one individual with sufficient dedicated time, experience in evaluation, and knowledge of the project to support the design and implementation of the evaluation. Tasks may include, but are not limited to, coordinating with the advisory committee and RSA to revise the logic model to provide for a more comprehensive measurement of implementation and outcomes, to reflect any changes or clarifications to the logic model discussed at the kick-off meeting, and to revise the evaluation design and instrumentation proposed in the grant application consistent with the logic model (e.g., developing quantitative or qualitative data collections that permit both the collection of progress data and the assessment of project outcomes);

(4) The standards and targets for determining effectiveness;

(5) How evaluation results will be used to examine the effectiveness of implementation and progress toward achieving the intended outcomes; and

(6) How the methods of evaluation will produce quantitative and qualitative data that demonstrate whether the project activities achieved their intended outcomes.

(d) Demonstrate, in the narrative section of the application under “Adequacy of Project Resources,” how—

(1) The proposed project will encourage applications for employment from persons who are members of groups that have historically been underrepresented based on race, color, national origin, gender, age, or disability, as appropriate;

(2) The proposed key project personnel, consultants, and subcontractors have the qualifications and experience to provide experiential learning to novice interpreters and to achieve the project's intended outcomes;

(3) The applicant and any key partners have adequate resources to carry out the proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors allocated to the project and how these allocations are appropriate and adequate to achieve the project's intended outcomes, including an assurance that such personnel will have adequate availability to ensure timely communications with stakeholders and RSA;

(3) The proposed management plan will ensure that the products and services provided are of high quality; and

(4) The proposed project will benefit from a diversity of perspectives, including the advisory committee, as well as other relevant groups in its development and operation.

(f) Address the following application requirements. The applicant must—

(1) Include, in Appendix A, a logic model that depicts, at a minimum, the goals, activities, outputs, and intended outcomes of the proposed project;

(2) Include, in Appendix A, a Memorandum of Understanding or a Letter of Intent between the lead applicant, members of the consortium, other proposed training and TA providers, and other relevant partners;

(3) Include, in Appendix A, a conceptual framework for the project;

(4) Include, in Appendix A, person-loading charts and timelines as applicable, to illustrate the management plan described in the narrative;

(5) Include, in the budget, attendance at the following:

(i) A one and one-half day kick-off meeting in Washington, DC, after receipt of the award;

(ii) An annual planning meeting in Washington, DC, with the RSA project officer and other relevant RSA staff during each subsequent year of the project period; and

(iii) A one-day intensive review meeting in Washington, DC, during the third quarter of the third year of the project period.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Paperwork Reduction Act of 1995

As part of its continuing effort to reduce paperwork and respondent burden, the Department provides the general public and Federal agencies with an opportunity to comment on proposed and continuing collections of information in accordance with the Paperwork Reduction Act of 1995 (PRA) (44 U.S.C. 3506(c)(2)(A)). This helps ensure that: The public understands the Department's collection instructions, respondents can provide the requested data in the desired format, reporting burden (time and financial resources) is minimized, collection instruments are clearly understood, and the Department can properly assess the impact of collection requirements on respondents.

This final priority contains information collection requirements that are approved by OMB under the National Interpreter Education program 1820-0018; this final priority does not affect the currently approved data collection.

Executive Orders 12866 and 13563

Regulatory Impact Analysis

Under Executive Order 12866, the Secretary must determine whether this regulatory action is “significant” and, therefore, subject to the requirements of the Executive Order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

Through this priority, experiential learning and TA will be provided to novice interpreters in order for them to achieve national certification. These activities will help interpreters to more effectively meet the communication needs of individuals who are deaf or hard of hearing and individuals who are deaf-blind. The training ultimately will improve the quality of VR services and the competitive integrated employment outcomes achieved by individuals with disabilities. This priority will promote the efficient and effective use of Federal funds.

Intergovernmental Review: This program is subject to Executive Order 12372 and the regulations in 34 CFR part 79. Information about Intergovernmental Review of Federal Programs under Executive Order 12372 is in the application package for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site, you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: July 19, 2016.
Sue Swenson,
Acting Assistant Secretary for Special Education and Rehabilitative Services.

[FR Doc. 2016-17404 Filed 7-22-16; 8:45 am]

BILLING CODE 4000-01-P